CORPORATION FOR NATIONAL AND COMMUNITY SERVICE

Sunshine Act Notice

The Board of Directors of the Corporation for National and Community Service gives notice of the following meeting:

DATE AND TIME: Wednesday, September 19, 2007, 8:45 a.m.-10:15 a.m.

PLACE: Corporation for National and Community Service, 8th Floor, 1201 New York Avenue, NW., Washington, DC 20525.

STATUS: Open.

MATTERS TO BE CONSIDERED:

I. Chair's Opening Remarks.

II. CEO Report.

III. Committee Reports.

IV. Honoring Departing Board Members.

V. Public Comment.

ACCOMMODATIONS: Anyone who needs an interpreter or other accommodation should notify the Corporation's contact person by 5 p.m., Monday, September 17, 2007.

CONTACT PERSON FOR MORE INFORMATION: Rachel Needle, Office of the CEO, Corporation for National and Community Service, 10th Floor, Room 10205, 1201 New York Avenue, NW., Washington, DC 20525. Phone (202) 606-6742. Fax (202) 606-3460. TDD: (202) 606-3472. E-mail: rneedle@cns.gov.

Dated: September 11, 2007.
Wilsie Y. Minor,
Deputy General Counsel.

FR Doc. 07-4579 Filed 9-11-07; 4:45 pm]

BILLING CODE 6050-$$-P